DEPARTMENT OF JUSTICE

[AAG/A Order No. 003-2007]

Privacy Act of 1974; Modification of System of Records

Pursuant to the provisions of the Privacy Act of 1974, 5 U.S.C. 552a, notice is given that the Department of Justice proposes to modify the Departmentwide system of records entitled, “Department of Justice Regional Data Exchange System (RDEX)” DOJ-012, previously published in full text in the Federal Register on July 11, 2005, (70 FR 39790), and amended on December 2, 2005 (70 FR 72315).

This system is being modified as follows:

The portions of the system of records notice entitled, CATEGORIES OF INDIVIDUALS COVERED BY THE SYSTEM, CATEGORIES OF RECORDS IN THE SYSTEM, PURPOSE OF THE SYSTEM, RETENTION AND DISPOSAL, SYSTEM MANAGERS AND ADDRESSES, and RECORD SOURCE CATEGORIES are being modified to reflect that information in RDEX includes criminal law enforcement information from certain state and local law enforcement agencies that participate in the RDEX system under memoranda of understanding (MOU) with the Department of Justice. The MOU sets forth policy and procedures for the sharing of law enforcement information by the contributing parties, including for the maintenance, responsibility, and use of shared information. The MOU provides that each contributing party retains sole responsibility of and exclusive control over the content of the information that it contributes to RDEX and establishes strict limitations on the access to information contributed by the parties.

This modification is necessary to reflect the inclusion of certain state and local law enforcement information that furthers the law enforcement sharing initiatives that are the basis of the RDEX system. The RDEX system is part of the Department's Law Enforcement Information Sharing Program (LEISP). The RDEX system includes this information to facilitate regional sharing initiatives which serves to further the LEISP's principal purpose of ensuring that criminal law enforcement information is available for users at all levels of government so that they can more effectively investigate, disrupt, and deter criminal activity, including terrorism, and protect the national security.

In accordance with 5 U.S.C. 552a(e)(4) and (11), the public is given a 30-day period in which to comment; and the Office of Management and Budget (OMB), which has oversight responsibility under the Privacy Act, requires a 40-day period in which to conclude its review of the system. Therefore, please submit any comments by March 12, 2007. The public, OMB, and Congress are invited to submit any comments to Mary E. Cahill, Management Analyst, Management and Planning Staff, Justice Management Division, United States Department of Justice, Washington, DC, 20530-0001 (Room 1400, National Place Building), Facsimile Number 202-307-1853.

In accordance with 5 U.S.C. 552a(r), the Department is providing a report of this modification to OMB and appropriate Members of Congress.

Dated: January 25, 2007.
Lee J. Lofthus,
Assistant Attorney General for Administration.

DEPARTMENT OF JUSTICE

DOJ-012

SYSTEM NAME:

Department of Justice Regional Data Exchange System (RDEX).

* * * * *

CATEGORIES OF INDIVIDUALS COVERED BY THE SYSTEM:

Individuals covered by this system include individuals who are referred to in potential or actual cases or matters of concern to the Federal Bureau of Prisons (BOP), the United States Marshals Service (USMS), the Bureau of Alcohol, Tobacco, Firearms, and Explosives (ATF), the Drug Enforcement Administration (DEA), the Federal Bureau of Investigation (FBI), as well as individuals referred to in law enforcement information contributed by certain state and local law enforcement agencies that participate in the RDEX system under memoranda of understanding with the Department of Justice. Because the system contains audit logs regarding queries, individuals who use the system to conduct such queries are also covered.

* * * * *

CATEGORIES OF RECORDS IN THE SYSTEM:

The system consists of unclassified criminal law enforcement records collected and produced by the BOP, the USMS, the ATF, the DEA, the FBI, and certain state and local law enforcement agencies, including: investigative reports and witness interviews from both open and closed cases; criminal event data (e.g., characteristics of criminal activities and incidents that identify links or patterns); criminal history information (e.g., history of arrests, nature and disposition of criminal charges, sentencing, confinement, and release); and identifying information about criminal offenders (e.g., name, address, date of birth, birthplace, physical description). The system also consists of audit logs that contain information regarding queries made of the system.

* * * * *

PURPOSE OF THE SYSTEM:

This system is maintained for the purpose of ensuring that Department of Justice criminal law enforcement information is available for users at all levels of government so that they can more effectively investigate, disrupt, and deter criminal activity, including terrorism, and protect the national security. RDEX furthers this purpose by consolidating certain law enforcement information from other Department of Justice systems, as well as certain state and local law enforcement information, in order that it may more readily be available for sharing with other law enforcement entities.

* * * * *

RETENTION AND DISPOSAL:

Records in this system are maintained and disposed of in accordance with all applicable statutory and regulatory requirements.

* * * * *

SYSTEM MANAGERS AND ADDRESSES:

[Replace first paragraph with the following:]

For the RDEX system generally and for state and local information: Director, Federal Bureau of Investigation, 935 Pennsylvania Avenue, NW., Washington, DC 20535.

[Other system managers remain the same.]

* * * * *

RECORD SOURCE CATEGORIES:

Records in RDEX come directly from the criminal law enforcement files and records systems of the participating Department of Justice components (ATF, BOP, DEA, FBI, and USMS), as well as certain state and local law enforcement agencies participating in the RDEX system under memoranda of understanding with the Department of Justice.

* * * * *

[FR Doc. E7-1567 Filed 1-30-07; 8:45 am]

BILLING CODE 4410-FB-P